DEPARTMENT OF HOMELAND SECURITY

Transportation Security Administration

[Docket No. TSA-2006-26514]

Intent To Request Revision From OMB of One Current Public Collection of Information: Physical Surface Transportation Security

AGENCY: Transportation Security Administration, DHS.

ACTION: 60-Day notice.

SUMMARY: The Transportation Security Administration (TSA) invites public comment on one currently approved Information Collection Request (ICR), Office of Management and Budget (OMB) control number 1652-0051, abstracted below that we will submit to OMB for a revision in compliance with the Paperwork Reduction Act (PRA). The ICR describes the nature of the information collection and its expected burden. The collection involves information to validate compliance with regulatory requirements aimed at enhancing surface transportation security, including security coordinator information, reporting of significant security concerns, location and shipping information, chain of custody and control requirements, security training programs and, security training records.

DATES: Send your comments by June 20, 2025.

ADDRESSES: Comments may be emailed to TSAPRA@dhs.gov or delivered to the TSA PRA Officer Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at https://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0051; Physical Surface Transportation Security. TSA collects and uses information collected under 49 CFR parts 1570 and 1580 to enhance the security of the Nation's rail systems. TSA is consolidating OMB Control Number 1652-0051 Rail Transportation Security, which collects and uses information collected under 49 CFR parts 1570 and 1580, with OMB Control Number 1652-0066 Security Training Program for Surface Transportation Employees, which collects and uses information collected under 49 CFR parts 1570, 1580, 1582, and 1584, and overlaps with information collected under OMB Control Number 1652-0051.

Sections 1570.201 and 1570.203 require that owner/operators of certain freight railroad carriers, certain rail hazardous materials shipper and receiver facilities, certain passenger railroad carriers, certain public transportation agencies, certain rail transit systems, and certain over-the-road bus operators providing fixed route service to designate and submit contact information for a security coordinator and at least one alternate security coordinator to TSA; and to report to TSA significant security concerns, which include security incidents, suspicious activities, and threat information.

Section 1580.203 requires that owner/operators of certain freight railroad carriers, certain rail hazardous materials shipper and receiver facilities that handle certain categories and quantities of rail security-sensitive materials (RSSM) to provide location and shipping information on rail cars under their physical custody and control to TSA upon request. The specified categories and quantities of RSSM cover explosive materials, materials poisonous by inhalation, and radioactive materials.

Section 1580.205 requires a secure chain of physical custody for rail cars containing rail security-sensitive materials (RSSM) which, in turn, requires that owner/operators of certain freight railroad carriers and certain rail hazardous materials shippers and receivers of RSSM to document the transfer of custody of certain rail cars in writing or electronically and to retain these records for a minimum of 60 calendar days and make them available to TSA upon request. Specifically, section 1580.205 requires documentation of the secure exchange of custody of rail cars containing RSSM between: a rail hazardous materials shipper and a freight railroad carrier; two separate freight railroad carriers, when the transfer of custody occurs within a high threat urban area (HTUA), or outside of an HTUA, but the rail car may subsequently enter an HTUA; and a freight railroad carrier and a rail hazardous materials receiver located within an HTUA. TSA recommends that the documentation must uniquely identify that the rail car was attended during the transfer of custody, including car initial and number; identification of individuals who attended the transfer (names or uniquely identifying employee number); location of transfer; and date and time the transfer was completed.

Sections 1580.113, 1582.113, and 1584.113 requires that owner/operators of certain freight railroads, public transportation and passenger railroads, and over-the-road bus companies submit a security training program to TSA and maintain security training records.

In light of the revision to consolidate the collections, TSA will request OMB to discontinue OMB Control Number 1652-0066 Security Training Program for Surface Transportation Employees and will change the title of the collection under OMB Control Number 1652-0051 from “Rail Transportation Security” to “Physical Surface Transportation Security.”

The total number of respondents for this collection is 2,070 and the annual burden is approximately 66,995 hours.

Dated: April 16, 2025.
Christina A. Walsh,
TSA Paperwork Reduction Act Officer, Office of Information Technology, Transportation Security Administration.

[FR Doc. 2025-06780 Filed 4-18-25; 8:45 am]

BILLING CODE 9110-05-P